DEPARTMENT OF TRANSPORTATION

Federal Aviation Administration

14 CFR Part 39

[Docket No. FAA-2011-1257; Directorate Identifier 2011-NM-124-AD; Amendment 39-17099; AD 2012-12-19]

RIN 2120-AA64

Airworthiness Directives; the Boeing Company Airplanes

AGENCY: Federal Aviation Administration (FAA), DOT.

ACTION: Final rule.

SUMMARY: We are adopting a new airworthiness directive (AD) for certain the Boeing Company Model 777-200, -200LR, and -300ER series airplanes. This AD was prompted by a report from the manufacturer indicating that the lowered ceiling support structure of Section 41, in airplanes incorporating the overhead space utilization (OSU) option, was found to be under-strength when subjected to a 9.0 g forward load. This AD requires installing new structural members, tie rod(s), and attach fittings on the left and right sides of the lowered ceiling support structure. We are issuing this AD to prevent the forward lowered ceiling panels and support structure from becoming dislodged during a 9.0 g forward load and consequent injury to personnel or interference with an emergency evacuation.

DATES: This AD is effective July 30, 2012.

The Director of the Federal Register approved the incorporation by reference of a certain publication listed in the AD as of July 30, 2012.

ADDRESSES: For service information identified in this AD, contact Boeing Commercial Airplanes, Attention: Data & Services Management, P.O. Box 3707, MC 2H-65, Seattle, Washington 98124-2207; telephone (206) 544-5000, extension 1; fax (206) 766-5680; email me.boecom@boeing.com; Internet https://www.myboeingfleet.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Ana Martinez Hueto, Aerospace Engineer, Cabin Safety and Environmental Systems Branch, ANM-150S, FAA, Seattle Aircraft Certification Office (ACO), 1601 Lind Avenue SW., Renton, WA 98057-3356; phone: (425) 917-6592; fax: (425) 917-6591; email: ana.m.hueto@faa.gov.

SUPPLEMENTARY INFORMATION:

Discussion

We issued a notice of proposed rulemaking (NPRM) to amend 14 CFR part 39 to include an AD that would apply to the specified products. That NPRM published in the Federal Register on November 30, 2011 (76 FR 74012). That NPRM proposed to require installing new structural members in and new tie rod(s) and attach fittings on the left and right sides of the lowered ceiling support structure.

Comments

We gave the public the opportunity to participate in developing this AD. The following presents the comments received on the proposal (76 FR 74012, November 30, 2011) and the FAA's response to each comment.

Request to Include Latest Revision of Service Information

United Airlines, Air France, and Boeing requested that we revise the proposed rule (76 FR 74012, November 30, 2011) to reflect the latest revision of the service information in this AD.

We agree. Boeing has issued Boeing Special Attention Service Bulletin 777-25-0482, Revision 1, dated February 21, 2012. This service bulletin was revised due to minor changes to correct hardware and location for its installation. We have changed this final rule to reference Boeing Special Attention Service Bulletin 777-25-0482, Revision 1, dated February 21, 2012, and changed total task hours in the Costs of Compliance section of this AD from 19 hours to 23 hours to account for the revised labor hours. Paragraph (h) of this final rule has also been added to give credit for actions performed before the effective date of this AD using Boeing Special Attention Service Bulletin 777-25-0482, dated February 24, 2011.

Conclusion

We reviewed the relevant data, considered the comments received, and determined that air safety and the public interest require adopting the AD with the changes described previously and minor editorial changes. We have determined that these minor changes:

• Αre consistent with the intent that was proposed in the NPRM (76 FR 74012, November 30, 2011) for correcting the unsafe condition; and

• Do not add any additional burden upon the public than was already proposed in the NPRM (76 FR 74012, November 30, 2011).

We also determined that these changes will not increase the economic burden on any operator or increase the scope of the AD.

Costs of Compliance

We estimate that this AD affects 4 airplanes of U.S. registry.

We estimate the following costs to comply with this AD:

Estimated Costs
Action | Labor cost | Parts cost | Cost per product | Cost on U.S. operators
Install ceiling support structure members, fittings, and tie rods | 23 work-hours × $85 per hour = $1,955 | $13,329 | $15,284 | $61,136

According to the manufacturer, some of the costs of this AD may be covered under warranty, thereby reducing the cost impact on affected individuals. We do not control warranty coverage for affected individuals. As a result, we have included all costs in our cost estimate.

Authority for this Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-12-19 The Boeing Company: Amendment 39-17099; Docket No. FAA-2011-1257; Directorate Identifier 2011-NM-124-AD.

(a) Effective Date

This AD is effective July 30, 2012.

(b) Affected ADs

None.

(c) Applicability

(1) This AD applies to The Boeing Company Model 777-200, -200LR, and -300ER series airplanes; certificated in any category; as identified in Boeing Special Attention Service Bulletin 777-25-0482, Revision 1, dated February 21, 2012.

(d) Subject

Joint Aircraft System Component (JASC)/Air Transport Association (ATA) of America Code 25: Equipment/Furnishings.

(e) Unsafe Condition

This AD was prompted by a report from the manufacturer indicating that the lowered ceiling support structure of Section 41, in airplanes incorporating the overhead space utilization (OSU) option, were found to be under-strength when subjected to a 9.0 g forward load. We are issuing this AD to prevent the forward lowered ceiling panels and support structure from becoming dislodged during a 9.0 g forward load and consequent injury to personnel or interference with an emergency evacuation.

(f) Compliance

Comply with this AD within the compliance times specified, unless already done.

(g) Installation of Lowered Ceiling Support Structure

Within 60 months after the effective date of this AD, install new structural members and new tie rod(s) and attach fittings on the left and right sides of the lowered ceiling support structure, in accordance with the Accomplishment Instructions of Boeing Special Attention Service Bulletin 777-25-0482, Revision 1, dated February 21, 2012.

(h) Credit for Previous Actions

This paragraph provides credit for actions required by paragraph (g) of this AD, if those actions were performed before the effective date of this AD using Boeing Special Attention Service Bulletin 777-25-0482, dated February 24, 2011.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization ODA that has been authorized by the Manager, Seattle ACO, to make those findings. For a repair method to be approved, the repair must meet the certification basis of the airplane and the approval must specifically refer to this AD.

(j) Related Information

(1) For more information about this AD, contact Ana Martinez Hueto, Aerospace Engineer, Cabin Safety and Environmental Systems Branch, ANM-150S, FAA, Seattle Aircraft Certification Office (ACO), 1601 Lind Avenue SW., Renton, WA 98057-3356; phone: 425-917-6592; fax: 425-917-6591; email: ana.m.hueto@faa.gov.

(k) Material Incorporated by Reference

(1) You must use the following service information to do the actions required by this AD, unless the AD specifies otherwise. The Director of the Federal Register approved the incorporation by reference (IBR) of the following service information under 5 U.S.C. 552(a) and 1 CFR part 51:

(i) Boeing Special Attention Service Bulletin 777-25-0482, Revision 1, dated February 21, 2012.

(2) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal-register/cfr/ibr-locations.html.

Issued in Renton, Washington, on June 11, 2012.
Kalene C. Yanamura,
Acting Manager, Transport Airplane Directorate, Aircraft Certification Service.

[FR Doc. 2012-15100 Filed 6-22-12; 8:45 am]

BILLING CODE 4910-13-P